DEPARTMENT OF TRANSPORTATION

Pipeline and Hazardous Materials Safety Administration

[Docket: PHMSA-98-4957]

Request for Public Comments and Office of Management and Budget Approval of an Existing Information Collection (2137-0614)

AGENCY: Pipeline and Hazardous Materials Safety Administration (PHMSA), DOT.

ACTION: Notice and request for comments.

SUMMARY: In compliance with the Paperwork Reduction Act of 1995, PHMSA published a notice with request for comments in the Federal Register on February 12, 2007 (72 FR 6664) and received no comments. PHMSA is now forwarding the information collection request to the OMB and providing an additional 30 days for comments.

DATES: Submit comments on or before May 18, 2007.

ADDRESSES: Send comments directly to the Office of Management and Budget, Office of Information and Regulatory Affairs, Attn: Desk Office for the Department of Transportation, 725 17th Street, NW., Washington, DC 20503.

FOR FURTHER INFORMATION CONTACT: Roger Little at (202) 366-4569, or by e-mail at roger.little@dot.gov.

SUPPLEMENTARY INFORMATION: PHMSA requires each hazardous liquid operator to submit an annual report (49 CFR 195.49). Using PHMSA form F7000.1, each operator must provide details about the size and characteristic of their pipeline systems. This information helps PHMSA identify and evaluate potential pipeline safety problems to minimize hazardous liquid pipeline failures. Copies of the report form are available in the docket.

PHMSA invites comments on whether the proposed information collection is necessary for the proper performance of the functions of the Department. The term “information collection” includes all work related to the preparing and disseminating of information in accordance with the recordkeeping requirements. The comments should address (1) Whether the information will have practical utility; (2) the accuracy of the Department's estimate about the information collection burden; (3) ways to enhance the quality, utility, and clarity of the information collection; and (4) ways to minimize the burden of the information collection on respondents, including the use of automated collection techniques or other forms of information technology.

Type of Information Collection Request: Renewal of Existing Collection.

Title of Information Collection: Hazardous Liquid Pipeline Operator Annual Reports.

Respondents: 218 hazardous liquid pipeline operators completing 417 annual reports.

Estimated Total Annual Burden on Respondents: 5,004 hours.

Issued in Washington, DC on April 11, 2007.
Florence L. Hamn,
Director, Office of Regulations, Office of Pipeline Safety.

[FR Doc. 07-1930 Filed 4-17-07; 8:45 am]

BILLING CODE 4910-60-P